DEPARTMENT OF ENERGY

Federal Energy Regulatory Commission

[Project No. 2310-193]

Pacific Gas and Electric Company

Notice of Application Tendered for Filing With the Commission and Establishing Procedural Schedule for Licensing and Deadline for Submission of Final Amendments.

Take notice that the following hydroelectric application has been filed with the Commission and is available for public inspection.

a. Type of Application: New Major License.

b. Project No.: 2310-193.

c. Date Filed: April 12, 2011.

d. Applicant: Pacific Gas and Electric Company.

e. Name of Project: Drum-Spaulding Project.

f. Location: The west slope of the Sierra Nevada on the South Yuba River, Bear River, North Fork of the North Fork American River, and tributaries in the Sacramento River watershed in Nevada and Placer counties, California. A large portion of the project is located on the Tahoe National Forest. Portions of the project occupy lands managed by the Bureau of Land Management and the Bureau of Reclamation.

g. Filed Pursuant to: Federal Power Act, 16 U.S.C. 791(a)-825(r).

h. Applicant Contact: Steve Peirano, Relicensing Project Manager, Pacific Gas and Electric Company, P.O. Box 770000, San Francisco, CA 94177-0001, (415) 973-4481, or e-mail slp2@pge.com.

i. FERC Contact: Alan Mitchnick, (202) 502-6074 or alan.mitchnick@ferc.gov.

j. This application is not ready for environmental analysis at this time.

k. Project Description: The project consists of 10 developments: Spaulding No. 3; Spaulding No. 1 and No. 2; Drum No. 1 and No. 2; Dutch Flat No. 1; Halsey; Wise; Newcastle; Deer Creek; Alta; and Wise No. 2. In the 10 developments, there are 29 reservoirs with a combined gross storage capacity of 154,388 acre-feet of water; 6 major water conduits; 12 powerhouses with a combined authorized installed capacity of 192.5 megawatts; 7 transmission lines; and appurtenant facilities and structures, including recreation facilities.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via e-mail of new filings and issuances related to this or other pending projects. For assistance, contact FERC Online Support.

n. Procedural Schedule: The application will be processed according to the following preliminary Hydro Licensing Schedule. Revisions to the schedule may be made as appropriate.

Milestone | Target date
Notice of Acceptance/Notice of Ready for Environmental Analysis | June 2011.
Filing of recommendations, preliminary terms and conditions, and fishway prescriptions | August 2011.
Commission issues Draft EIS | February 2012.
Comments on Draft EIS | March 2012.
Modified Terms and Conditions | May 2012.
Commission Issues Final EIS | September 2012.

o. Final amendments to the application must be filed with the Commission no later than 30 days from the issuance date of the notice of ready for environmental analysis.

Dated: April 26, 2011.
Kimberly D. Bose,
Secretary.

[FR Doc. 2011-10537 Filed 4-29-11; 8:45 am]

BILLING CODE 6717-01-P